DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: June 3-4, 2009.

Place: Douglas Pavilion A Ballroom, Manchester Grand Hyatt San Diego, One Market Place, San Diego, CA 92101.

Time: 8 a.m. to 5:15 p.m. (June 3, 2009); 8 a.m. to 5 p.m. (June 4, 2009).

FOR FURTHER INFORMATION CONTACT: Inquiries and notice of intent to attend the meeting may be addressed to COL Gary E. Johnston, Executive Secretary, U.S. Army Engineer Research and Development Center, Waterways Experiment Station, 3909 Halls Ferry Road, Vicksburg, MS 39180-6199.

SUPPLEMENTARY INFORMATION:

The Board provides broad policy guidance and review of plans and fund requirements for the conduct of research and development of research projects in consonance with the needs of the coastal engineering field and the objectives of the Chief of Engineers.

Proposed Agenda: The goal of the meeting is to examine data needs to enable systems-scale decision making for coastal projects and management. Presentations on Wednesday morning, June 3, will consist of Coastal Working Group Meeting Report; Introduction—Overall Vision of Corps as Data Developers and Users; Flood and Coastal—Data Requirements for Coastal Project Planning, Engineering, Construction, and Operations; Emergency Management—Forecasting Hurricane Gustav, from Numerical Models to -time Data; Navigation—Data Requirements for Coastal Navigation Project Planning, Engineering, Construction, and Operations; Coastal, Navigation, and Emergency Response Data Use; Gulf of Mexico Alliance (GOMA)—Multi-state Data Requirements; and National Oceanic and Atmospheric Administration's (NOAA's) Digital Coast. The afternoon presentations will include Data to Support Climate Change Studies; Impact of Data on Marine Transportation System Including Management of Threatened and Endangered Species; National Plan on Ocean and Coastal Mapping (OCM)—Long-term Plans/Direction for OCM; Future of Integrated Ocean Observing System (IOOS)—Long-term Plans/Directions for IOOS; Future Coast—Organized and Sustainable or Chaotic and Dying?—Data Needed to Quantify Conditions and Monitor Change; and Challenges in Future Requirements and Directions: The Way Ahead.

The presentations on Thursday, June 4, 2009, include National Perspective on Gaps in Coastal Data; California Sediment Management—Goals, Relationships, Data Needs; Technical Tools for Regional Sediment Management; Regional Sediment Management Plan Development throughout California, Highlighting the San Diego Region; USGS Data Collection Activities in California; San Francisco District Costal Activities and Coastal Watershed Demonstration at Santa Cruz Harbor; and Los Angeles District Activities and Data Utilization.

Thursday afternoon, June 4, is devoted to a bus field trip for general attendees and the Board Executive Session to discuss ongoing initiatives and actions.

These meetings are open to the public. Participation by the public is scheduled for 12 p.m. on Thursday, June 4.

The entire meeting and field trip are open to the public, but since seating capacity is limited, advance notice of attendance is required. Oral participation by public attendees is encouraged during the time scheduled on the agenda; written statements may be submitted prior to the meeting or up to 30 days after the meeting.

Brenda S. Bowen,
Army Federal Register Liaison Officer.

[FR Doc. E9-10736 Filed 5-7-09; 8:45 am]

BILLING CODE 3720-58-P